FEDERAL MARITIME COMMISSION

Ocean Transportation Intermediary License Revocations

The Commission gives notice that the following Ocean Transportation Intermediary licenses have been revoked pursuant to section 19 of the Shipping Act of 1984 (46 U.S.C. 40101) effective on the date shown.

License No.: 7763N.

Name: Falcon Express Lines, Inc.

Address: 159-11 Rockaway Blvd., Jamaica, NY 11434.

Date Revoked: February 27 2013.

Reason: Voluntary Surrender of License.

License No.: 8927N.

Name: Grand Express International, Inc.

Address: 135 Mimosa Drive, Roslyn, NY 11576.

Date Revoked: February 28, 2013.

Reason: Failed to maintain a valid bond.

License No.: 016816F.

Name: Green Integrated Logistics, Inc.

Address: 16210 South Maple Avenue, Gardena, CA 90248.

Date Revoked: March 14, 2013.

Reason: Failed to maintain a valid bond.

License No.: 017054NF.

Name: Asian Logistics, Inc.

Address: 2079 South Atlantic Blvd., Suite D, Monterey Park, CA 91754.

Date Revoked: March 1, 2013.

Reason: Failed to maintain valid bonds.

License No.: 017436N.

Name: Scorpion Express Line Corp.

Address: 4995 NW 72nd Avenue, Suite 209, Miami, FL 33122.

Date Revoked: March 14, 2013.

Reason: Failed to maintain a valid bond.

License No.: 17743N.

Name: Worldtrans Co. dba Worldtrans Container Line.

Address: 115 N. Main Street, Suite 200, Algonquin, IL 60102.

Date Revoked: March 15, 2013.

Reason: Failed to maintain a valid bond.

License No.: 18180N.

Name: World Connection Express, Inc.

Address: 3055 Sullivan Avenue, Rosemead, CA 91770.

Date Revoked: March 2, 2013.

Reason: Failed to maintain a valid bond.

License No.: 019778F.

Name: FT Worldwide, LLC.

Address: 2979 Rushland Road, Jamison, PA 18929.

Date Revoked: March 7, 2013.

Reason: Failed to maintain a valid bond.

License No.: 020715N.

Name: HI Trading International Corp. dba HI Transport International dba Shine International Transportation (LA).

Address: 12831 Weber Way, Hawthorne, CA 90250.

Dates Revoked: March 15, 2013

Reason: Failed to maintain a valid bond.

License No.: 020743NF.

Name: Sil, LLC. dba Air Ocean Cargo USA, LLC. dba Superior International Logistics.

Address: 4471 NW 36th Street, Miami Springs, FL 33166.

Date Revoked: February 28, 2013.

Reason: Failed to maintain valid bonds.

License No.: 022799N.

Name: Atlantic Cargo Logistics LLC.

Address: 127 East New York Avenue, Suite 1, Deland, FL 32720.

Date Revoked: March 14, 2013.

Reason: Failed to maintain a valid bond.

License No.: 023056NF.

Name: RDD Freight International (Atlanta), Inc.

Address: 7094 Peachtree Industrial Blvd., Suite 188, Norcross, GA 30071.

Date Revoked: March 14, 2013.

Reason: Failed to maintain valid bonds.

License No.: 023129N.

Name: F.L. Investment Group, Inc. dba Quivas Cargo Express.

Address: 4101 Alverado Street, Orlando, FL 32812.

Date Revoked: March 15, 2013.

Reason: Failed to maintain a valid bond.

License No.: 023294NF.

Name: DTS Advance LLC dba Triple Eagle Logistics Canada.

Address: 38850 Taylor Parkway, North Ridgeville, OH 44039.

Date Revoked: February 28, 2013.

Reason: Failed to maintain valid bonds.

License No.: 023362NF.

Name: Ameritrans Freight International (USA), LLC.

Address: 13723 Harvest Glen Way, Germantown, MD 20874.

Date Revoked: February 27, 2013.

Reason: Failed to maintain valid bonds.

License No.: 024001F.

Name: BM Forwarding Inc.

Address: 1290 Maple View Drive, Pomona, CA 91766.

Date Revoked: March 13, 2013.

Reason: Voluntary Surrender of License.

Vern W. Hill,
Director, Bureau of Certification and Licensing.

[FR Doc. 2013-07734 Filed 4-2-13; 8:45 am]

BILLING CODE 6730-01-P